DEPARTMENT OF COMMERCE

National Oceanic and Atmospheric Administration

50 CFR Part 665

[Docket No. 170330338-7585-02]

RIN 0648-XF335

Pacific Island Fisheries; 2017-18 Annual Catch Limit and Accountability Measures; Main Hawaiian Islands Deep 7 Bottomfish

AGENCY: National Marine Fisheries Service (NMFS), National Oceanic and Atmospheric Administration (NOAA), Commerce.

ACTION: Final specifications.

SUMMARY: NMFS specifies an annual catch limit (ACL) of 306,000 lb for Deep 7 bottomfish in the main Hawaiian Islands (MHI) for the 2017-18 fishing year, which will begin on September 1, 2017, and end on August 31, 2018. If NMFS projects that the fishery will reach the ACL, NMFS would close the commercial and non-commercial fisheries for MHI Deep 7 bottomfish for the remainder of the fishing year as an accountability measure (AM). The ACL and AM support the long-term sustainability of Hawaii bottomfish.

DATES: The final specifications are effective from July 31, 2017, through August 31, 2018.

ADDRESSES: Copies of the Fishery Ecosystem Plan for the Hawaiian Archipelago are available from the Western Pacific Fishery Management Council (Council), 1164 Bishop St., Suite 1400, Honolulu, HI 96813, tel. 808-522-8220, fax 808-522-8226, or www.wpcouncil.org. Copies of the environmental assessment and finding of no significant impact for this action, identified by NOAA-NMFS-2017-0033, are available from www.regulations.gov, or from Michael D. Tosatto, Regional Administrator, NMFS Pacific Islands Region (PIR), 1845 Wasp Blvd. Bldg. 176, Honolulu, HI 96818.

FOR FURTHER INFORMATION CONTACT: Sarah Ellgen, NMFS PIR Sustainable Fisheries, 808-725-5173.

SUPPLEMENTARY INFORMATION: Through this action, NMFS is specifying an ACL of 306,000 lb of Deep 7 bottomfish in the MHI for the 2017-18 fishing year. The fishing year begins September 1, 2017, and ends on August 31, 2018. The Council recommended this ACL, based on the best available scientific, commercial, and other information, taking into account the associated risk of overfishing. The ACL of 306,000 lb for 2017-18 is 12,000 lb less than the ACL that NMFS specified for 2016-17 (82 FR 5429, January 18, 2017).

The MHI Management Subarea is the portion of U.S. Exclusive Economic Zone around the Hawaiian Archipelago east of 161°20′ W. The Deep 7 bottomfish are onaga (Etelis coruscans), ehu (E. carbunculus), gindai (Pristipomoides zonatus), kalekale (P. sieboldii), opakapaka (P. filamentosus), lehi (Aphareus rutilans), and hapuupuu (Hyporthodus quernus).

NMFS will monitor the fishery and, if we project that the fishery will reach the ACL before August 31, 2018, we would, as an AM authorized in 50 CFR 665.4(f), close the non-commercial and commercial fisheries for Deep 7 bottomfish in Federal waters through August 31, 2018. During a fishery closure for Deep 7 bottomfish, no person may fish for, possess, or sell any of these fish in the MHI Management Subarea. There is no prohibition on fishing for, possessing, or selling other (non-Deep 7) bottomfish during such a closure. All other management measures continue to apply in the MHI bottomfish fishery. If NMFS and the Council determine that the final 2017-18 Deep 7 bottomfish catch exceeds the ACL, NMFS would reduce the Deep 7 bottomfish ACL for 2018-19 by the amount of the overage.

You may review additional background information on this action in the preamble to the proposed specifications (82 FR 24092; May 25, 2017); we do not repeat that information here.

Comments and Responses

The comment period for the proposed specifications ended on June 9, 2017. NMFS did not receive any comments.

Changes From the Proposed Specifications

There are no changes in the final specifications from the proposed specifications.

Classification

The Regional Administrator, NMFS PIR, determined that this action is necessary for the conservation and management of MHI Deep 7 bottomfish, and that it is consistent with the Magnuson-Stevens Act and other applicable laws.

The Chief Counsel for Regulation of the Department of Commerce certified to the Chief Counsel for Advocacy of the Small Business Administration during the proposed specification stage that this action would not have a significant economic impact on a substantial number of small entities. NMFS published the factual basis for the certification in the proposed specifications, and does not repeat it here. NMFS did not receive comments regarding this certification. As a result, a final regulatory flexibility analysis is not required, and one was not prepared.

This action is exempt from review under Executive Order 12866.

Authority: 16 U.S.C. 1801 et seq.

Dated: June 26, 2017.
Samuel D. Rauch III,
Deputy Assistant Administrator for Regulatory Programs, National Marine Fisheries Service.

[FR Doc. 2017-13681 Filed 6-29-17; 8:45 am]

BILLING CODE 3510-22-P